DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I, II and III

36 CFR Ch. II

48 CFR Ch. 4

Semiannual Regulatory Agenda, Fall 2012

AGENCY: Office of the Secretary, USDA.

ACTION: Semiannual regulatory agenda.

SUMMARY: This agenda provides summary descriptions of significant and not significant regulations being developed in agencies of the U.S. Department of Agriculture (USDA) in conformance with Executive Orders (EO) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with EO 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important significant regulatory actions and a Statement of Regulatory Priorities are included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: October 22, 2012.
Michael Poe,
Chief, Legislative and Regulatory Staff.

Agricultural Marketing Service—Proposed Rule Stage
Sequence No. | Title | Regulation Identifier No.
123 | National Organic Program, Organic Pet Food Standards | 0581-AD20
124 | National Organic Program; Sunset Review (2012) for Sodium Nitrate | 0581-AD22

Agricultural Marketing Service—Final Rule Stage
Sequence No. | Title | Regulation Identifier No.
125 | National Organic Program: Sunset Review for Nutrient Vitamins and Minerals | 0581-AD17

Agricultural Marketing Service—Completed Actions
Sequence No. | Title | Regulation Identifier No.
126 | Wholesale Pork Reporting Program | 0581-AD07
127 | National Organic Program, Periodic Pesticide Residue Testing, NOP-10-0102 | 0581-AD10

Farm Service Agency—Final Rule Stage
Sequence No. | Title | Regulation Identifier No.
128 | Farm Loan Programs, Clarification and Improvement | 0560-AI14
129 | Microloan Operating Loans | 0560-AI17

Animal and Plant Health Inspection Service—Proposed Rule Stage
Sequence No. | Title | Regulation Identifier No.
130 | Animal Welfare: Marine Mammals; Nonconsensus Language and Interactive Programs (Rulemaking Resulting From a Section 610 Review) | 0579-AB24
131 | Animal Welfare; Regulations and Standards for Birds | 0579-AC02
132 | Scrapie in Sheep and Goats | 0579-AC92
133 | Plant Pest Regulations; Update of General Provisions (Reg Plan Seq No. 3) | 0579-AC98
134 | Bovine Spongiform Encephalopathy and Scrapie; Importation of Small Ruminants and Their Germplasm, Products, and Byproducts | 0579-AD10
135 | Importation of Beef From a Region in Brazil | 0579-AD41
136 | Labeling Requirements for Firewood Moved Interstate | 0579-AD49
References in boldface appear in The Regulatory Plan in part II of this issue of the Federal Register.

Animal and Plant Health Inspection Service—Final Rule Stage
Sequence No. | Title | Regulation Identifier No.
137 | Citrus Canker; Compensation for Certified Citrus Nursery Stock | 0579-AC05
138 | Introduction of Organisms and Products Altered or Produced Through Genetic Engineering | 0579-AC31
139 | Importation of Poultry and Poultry Products From Regions Affected With Highly Pathogenic Avian Influenza | 0579-AC36
140 | Bovine Spongiform Encephalopathy; Importation of Bovines and Bovine Products | 0579-AC68
141 | Handling of Animals; Contingency Plans | 0579-AC69
142 | Agricultural Bioterrorism Protection Act of 2002; Biennial Review and Republication of the Select Agent and Toxin List; Amendments to the Select Agent and Toxin Regulations | 0579-AD09
143 | Lacey Act Implementation Plan; Definitions for Exempt and Regulated Articles | 0579-AD11
144 | Animal Disease Traceability (Reg Plan Seq No. 5) | 0579-AD24
145 | Importation of Wood Packaging Material From Canada | 0579-AD28
146 | Citrus Canker, Citrus Greening, and Asian Citrus Psyllid; Interstate Movement of Regulated Nursery Stock | 0579-AD29
147 | Treatment of Firewood and Spruce Logs Imported From Canada | 0579-AD60
References in boldface appear in The Regulatory Plan in part II of this issue of the Federal Register.

Animal and Plant Health Inspection Service—Completed Actions
Sequence No. | Title | Regulation Identifier No.
148 | Importation of Fresh Pitaya Fruit From Central America Into the Continental United States | 0579-AD40
149 | Importation of Dracaena Plants From Costa Rica | 0579-AD54

Rural Housing Service—Final Rule Stage
Sequence No. | Title | Regulation Identifier No.
150 | Guaranteed Single-Family Housing | 0575-AC18

Food and Nutrition Service—Proposed Rule Stage
Sequence No. | Title | Regulation Identifier No.
151 | National School Lunch and School Breakfast Programs: Nutrition Standards for All Foods Sold in School, as Required by the Healthy, Hunger-Free Kids Act of 2010 (Reg Plan Seq No. 8) | 0584-AE09
152 | Child and Adult Care Food Program: Meal Pattern Revisions Related to the Healthy, Hunger-Free Kids Act of 2010 | 0584-AE18
153 | Enhancing Retailer Eligibility Standards in SNAP | 0584-AE27
References in boldface appear in The Regulatory Plan in part II of this issue of the Federal Register.

Food and Nutrition Service—Final Rule Stage
Sequence No. | Title | Regulation Identifier No.
154 | Certification of Compliance With Meal Requirements for the National School Lunch Program Under the Healthy, Hunger-Free Kids Act of 2010 | 0584-AE15

Food Safety and Inspection Service—Proposed Rule Stage
Sequence No. | Title | Regulation Identifier No.
155 | Performance Standards for the Production of Processed Meat and Poultry Products | 0583-AC46
156 | Descriptive Designation for Needle or Blade Tenderized (Mechanically Tenderized) Beef Products (Reg Plan Seq No. 16) | 0583-AD45
References in boldface appear in The Regulatory Plan in part II of this issue of the Federal Register.

Food Safety and Inspection Service—Long-Term Actions
Sequence No. | Title | Regulation Identifier No.
157 | Mandatory Inspection of Catfish and Catfish Products | 0583-AD36

Forest Service—Proposed Rule Stage
Sequence No. | Title | Regulation Identifier No.
158 | National Forest System Invasive Species Management Handbook | 0596-AD05

Forest Service—Final Rule Stage
Sequence No. | Title | Regulation Identifier No.
159 | Land Management Planning Rule Policy | 0596-AD06

Office of Procurement and Property Management—Proposed Rule Stage
Sequence No. | Title | Regulation Identifier No.
160 | Designation of Biobased Items for Federal Procurement, Round 10 | 0599-AA16

Office of Procurement and Property Management—Completed Actions
Sequence No. | Title | Regulation Identifier No.
161 | Designation of Biobased Items for Federal Procurement, Round 9 | 0599-AA15

DEPARTMENT OF AGRICULTURE (USDA)

Agricultural Marketing Service (AMS)

Proposed Rule Stage

123. National Organic Program, Organic Pet Food Standards

Legal Authority: 7 U.S.C. 6501

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically-based regulations for voluntary adoption by State jurisdictions to ensure the safety, quality and effectiveness of feed. In November 2008, the NOSB approval a final recommendation for organic pet food standards incorporating the provisions drafted by the pet food task force.

Timetable:

Action | Date | FR Cite
NPRM | 06/00/13
Final Action | 06/00/14

Regulatory Flexibility Analysis Required: Yes.

Agency Contact: Melissa R. Bailey, Director, Standards Division, Department of Agriculture, Agricultural Marketing Service, 14th & Independence Avenue SW., Rm. 2646—South Building, Washington, DC 20250, Phone: 202 720-3252, Fax: 202 205-7808, Email: melissa.bailey@usda.gov.

RIN: 0581-AD20

124. National Organic Program; Sunset Review (2012) for Sodium Nitrate

Legal Authority: 7 U.S.C. 6501

Abstract: This action proposes to amend the listing for sodium nitrate on the National List of Allowed and Prohibited Substances as part of the 2012 Sunset Review process. Consistent with the recommendation from the National Organic Standards Board, this amendment would prohibit the use of the substance in its entirety from organic crop production.

Timetable:

Action | Date | FR Cite
NPRM | 04/00/13

Regulatory Flexibility Analysis Required: Yes.

Agency Contact: Melissa R. Bailey, Director, Standards Division, Department of Agriculture, Agricultural Marketing Service, 14th & Independence Avenue SW., Rm. 2646—South Building, Washington, DC 20250, Phone: 202 720-3252, Fax: 202 205-7808, Email: melissa.bailey@usda.gov.

RIN: 0581-AD22

DEPARTMENT OF AGRICULTURE (USDA)

Agricultural Marketing Service (AMS)

Final Rule Stage

125. National Organic Program: Sunset Review For Nutrient Vitamins and Minerals

Legal Authority: 7 U.S.C. 6501

Abstract: This action renews the listing for nutrient vitamins and minerals on the National List of Allowed and Prohibited Substances (National List) as part of the 2012 Sunset Review process. Consistent with the recommendation from the National Organic Standards Board (NOSB), this action ensures that the U.S. organic industry can continue using vitamins and minerals in organic products (e.g., the addition of Vitamin A and D in organic milk, the addition of B vitamins in organic cereal). Under this action, the status quo will remain in effect such that nutrients currently used in organic products can continue to be used until the Agricultural Marketing Service (AMS) addresses any changes in their allowance through a final rule.

Timetable:

Action | Date | FR Cite
NPRM | 01/12/12 | 77 FR 1980
NPRM Comment Period End | 03/12/12
Interim Final Rule | 09/27/12 | 77 FR 59287
Final Action | 05/00/13

Regulatory Flexibility Analysis Required: Yes.

Agency Contact: Melissa R. Bailey, Director, Standards Division, Department of Agriculture, Agricultural Marketing Service, 14th & Independence Avenue SW., Rm. 2646-South Building, Washington, DC 20250, Phone: 202 720-3252, Fax: 202 205-7808, Email: melissa.bailey@usda.gov.

RIN: 0581-AD17

DEPARTMENT OF AGRICULTURE (USDA)

Agricultural Marketing Service (AMS)

Completed Actions

126. Wholesale Pork Reporting Program

Legal Authority: 7 U.S.C. 1635 to 1636

Abstract: On September 15, 2010, Congress passed the Mandatory Price Reporting Act of 2010 reauthorizing Livestock Mandatory Reporting for 5 years and adding a provision for mandatory reporting of wholesale pork cuts. The Act was signed by the President on September 28, 2010. Congress directed the Secretary to engage in negotiated rulemaking to make required regulatory changes for mandatory wholesale pork reporting. Further, Congress required that the negotiated rulemaking committee include representatives from (i) organizations representing swine producers; (ii) organizations representing packers of pork, processors of pork, retailers of pork, and buyers of wholesale pork; (iii) the Department of Agriculture; and (iv) interested parties that participate in swine or pork production.

Completed:

Reason | Date | FR Cite
Final Action | 08/22/12 | 77 FR 50561
Final Action Effective | 01/07/13 |

Regulatory Flexibility Analysis Required: Yes.

Agency Contact: Michael P. Lynch, Phone: 202 720-6231.

RIN: 0581-AD07

127. National Organic Program, Periodic Pesticide Residue Testing, NOP-10-0102

Legal Authority: 7 U.S.C. 6501

Abstract: Under the Organic Foods Production Act (OFPA) of 1990, the National Organic Program is authorized to require pre-harvest residue testing for products sold or labeled as organic. This requirement is promulgated in section 205.670(b) of the NOP regulations which provides that the Secretary, state programs, and certifying agents may require pre-harvest or post-harvest testing of organic products when there is reason to believe that the product has come into contact with a prohibited substance or has been produced using excluded methods.

Based on recommendations from a March 2010 OIG audit, the NOP published a proposed rule that would amend regulations such that certifying agents would be required to conduct periodic testing of agricultural products that are to be sold, labeled or represented as “100 percent organic, organic,” or “made with organic (specified ingredients or food group(s))”. Specifically, the proposed rule specified that certifying agents would be required, on an annual basis, to randomly sample and test agricultural products from a minimum of 5 percent of the operations they certify.

Completed:

Reason | Date | FR Cite
Final Action | 11/09/12 | 77 FR 67239
Final Action Effective | 01/01/13 |

Regulatory Flexibility Analysis Required: Yes.

Agency Contact: Melissa R. Bailey, Phone: 202 720-3252, Fax: 202 205-7808, Email: melissa.bailey@usda.gov.

RIN: 0581-AD10

DEPARTMENT OF AGRICULTURE (USDA)

Farm Service Agency (FSA)

Final Rule Stage

128. Farm Loan Programs, Clarification and Improvement

Legal Authority: 5 U.S.C. 301; 7 U.S.C. 1989

Abstract: The rule will amend Farm Loan Programs (FLP) regulations for loan servicing including the following areas:

—Real estate appraisals;

—Lease, subordination, and disposition of security; and

—Conservation contracts.

FSA is also making technical and conforming amendments. The amendments are technical corrections, clarifications, and procedural improvements that will allow FSA to further streamline normal servicing activities and reduce burden on borrowers while still protecting the loan security.

Timetable:

Action | Date | FR Cite
NPRM | 04/13/12 | 77 FR 22444
NPRM Comment Period End | 06/12/12 |
Final Action | 06/00/13 |

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI14

129. Microloan Operating Loans

Legal Authority: 7 U.S.C. 1946; 5 U.S.C. 301; 7 U.S.C. 1989

Abstract: The rule will establish a new small loan category within the existing direct Operating Loan Program regulations. The microloan program is expected to serve the unique operating needs of very small family farm operations. The intended effect is to make the Operating Loan Program more widely available and attractive to smaller operators through reduced application requirements, more timely application processing, and added flexibility in meeting the managerial ability eligibility requirement.

Timetable:

Action | Date | FR Cite
NPRM | 05/25/12 | 77 FR 31220
NPRM Comment Period End | 07/24/12 |
Final Rule | 01/00/13 |

Regulatory Flexibility Analysis Required: Yes.

Agency Contact: Deirdre Holder, Director, Regulatory Review Group, Department of Agriculture, Farm Service Agency, 1400 Independence Avenue SW., Washington, DC 20250-0572, Phone: 202 205-5851, Fax: 202 720-5233, Email: deirdre.holder@wdc.usda.gov.

RIN: 0560-AI17

BILLING CODE 3410-02-P

DEPARTMENT OF AGRICULTURE (USDA)

Animal and Plant Health Inspection Service (APHIS)

Proposed Rule Stage

130. Animal Welfare: Marine Mammals; Nonconsensus Language and Interactive Programs (Rulemaking Resulting From a Section 610 Review)

Legal Authority: 7 U.S.C. 2131 to 2159

Abstract: The U.S. Department of Agriculture regulates the humane handling, care, treatment, and transportation of certain marine mammals under the Animal Welfare Act. The present standards for these animals have been in effect since 1979 and amended in 1984. During this time, advances have been made and new information has been developed with regard to the housing and care of marine mammals. This rulemaking addresses marine mammal standards on which consensus was not reached during negotiated rulemaking conducted between September 1995 and July 1996. These actions appear necessary to ensure that the minimum standards for the humane handling, care, treatment, and transportation of marine mammals in captivity are based on current general, industry, and scientific knowledge and experience.

Timetable:

Action | Date | FR Cite
ANPRM | 05/30/02 | 67 FR 37731
ANPRM Comment Period End | 07/29/02 |
NPRM | 01/00/13 |
NPRM Comment Period End | 03/00/13 |

Regulatory Flexibility Analysis Required: Yes.

Agency Contact: Barbara Kohn, Senior Staff Veterinarian, Animal Care, Department of Agriculture, Animal and Plant Health Inspection Service, 4700 River Road, Unit 84, Riverdale, MD 20737-1234, Phone: 301 851-3751.

RIN: 0579-AB24

131. Animal Welfare; Regulations and Standards for Birds

Legal Authority: 7 U.S.C. 2131 to 2159

Abstract: APHIS intends to establish standards for the humane handling, care, treatment, and transportation of birds other than birds bred for use in research.

Timetable:

Action | Date | FR Cite
NPRM | 11/00/13 |

Regulatory Flexibility Analysis Required: Yes.

Agency Contact: Johanna Briscoe, Veterinary Medical Officer and Avian Specialist, Animal Care, Department of Agriculture, Animal and Plant Health Inspection Service, 4700 River Road, Unit 84, Riverdale, MD 20737-1234, Phone: 301 851-3726.

RIN: 0579-AC02

132. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 03/00/13 |
NPRM Comment Period End | 05/00/13 |

Regulatory Flexibility Analysis Required: Yes.

Agency Contact: Diane Sutton, National Scrapie Program Coordinator, Ruminant Health Programs, NCAHP, VS, Department of Agriculture, Animal and Plant Health Inspection Service, 4700 River Road, Unit 43, Riverdale, MD 20737-1235, Phone: 301 851-3509.

RIN: 0579-AC92

133. Plant Pest Regulations; Update of General Provisions

Regulatory Plan: This entry is Seq. No. 3 in part II of this issue of the Federal Register.

RIN: 0579-AC98

134. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 05/00/13 |
NPRM Comment Period End | 07/00/13 |

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231, Phone: 301 851-3364.

RIN: 0579-AD10

135. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking would amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States provided certain conditions are met. This action would provide for the importation of beef from the designated region in Brazil into the United States while continuing to protect the United States against the introduction of foot-and-mouth disease.

Timetable:

Action | Date | FR Cite
NPRM | 04/00/13 |
NPRM Comment Period End | 06/00/13 |

Regulatory Flexibility Analysis Required: Yes.

Agency Contact: Silvia Kreindel, Senior Staff Veterinarian, Regionalization Evaluation Services Staff, NCIE, VS, Department of Agriculture, Animal and Plant Health Inspection Service, 4700 River Road, Unit 39, Riverdale, MD 20737-1231, Phone: 301 851-3313.

RIN: 0579-AD41

136. Labeling Requirements for Firewood Moved Interstate

Legal Authority: 7 U.S.C. 7701 to 7772; 7 U.S.C. 7781 to 7786

Abstract: Currently, the movement of firewood in interstate commerce is largely unregulated. However, this movement can be a pathway for numerous plant pests. Accordingly, this rule proposes requirements that would aid in preventing the further dissemination of plant pests within the United States through the interstate movement of firewood.

Timetable:

Action | Date | FR Cite
NPRM | 08/00/13 |
NPRM Comment Period End | 10/00/13 |

Regulatory Flexibility Analysis Required: Yes.

Agency Contact: Paul Chaloux, National Program Manager, Emergency and Domestic Programs, PPQ, Department of Agriculture, Animal and Plant Health Inspection Service, 4700 River Road, Unit 137, Riverdale, MD 20737-1236, Phone: 301 851-2064.

RIN: 0579-AD49

DEPARTMENT OF AGRICULTURE (USDA)

Animal and Plant Health Inspection Service (APHIS)

Final Rule Stage

137. Citrus Canker; Compensation for Certified Citrus Nursery Stock

Legal Authority: 7 U.S.C. 7701 to 7772; 7 U.S.C. 7781 to 7786

Abstract: This action follows a rulemaking that established provisions under which eligible commercial citrus nurseries may, subject to the availability of appropriated funds, receive payments for certified citrus nursery stock destroyed to eradicate or control citrus canker. The payment of these funds is necessary in order to reduce the economic effects on affected commercial citrus nurseries that have had certified citrus nursery stock destroyed to control citrus canker.

Timetable:

Action | Date | FR Cite
Interim Final Rule | 06/08/06 | 71 FR 33168
Interim Final Rule Effective | 06/08/06 |
Interim Final Rule Comment Period End | 08/07/06 |
Final Action | 11/00/13 |

Regulatory Flexibility Analysis Required: Yes.

Agency Contact: Lynn E. Goldner, National Program Manager, Emergency and Domestic Programs, PPQ, Department of Agriculture, Animal and Plant Health Inspection Service, 4700 River Road, Unit 160, Riverdale, MD 20737-1231, Phone: 301 851-2286.

RIN: 0579-AC05

138. Introduction of Organisms and Products Altered or Produced Through Genetic Engineering

Legal Authority: 7 U.S.C. 7701 to 7772; 7 U.S.C. 7781 to 7786; 31 U.S.C. 9701

Abstract: This rulemaking will revise the regulations regarding the importation, interstate movement, and environmental release of certain genetically engineered organisms and update the regulations in response to advances in genetic science and technology and our accumulated experience in implementing the current regulations. This rule will affect persons involved in the importation, interstate movement, or release into the environment of genetically engineered plants and certain other genetically engineered organisms.

Timetable:

Action | Date | FR Cite
Notice of Intent to Prepare an Environmental Impact Statement | 01/23/04 | 69 FR 3271
Comment Period End | 03/23/04 |
Notice of Availability of Draft Environmental Impact Statement | 07/17/07 | 72 FR 39021
Comment Period End | 09/11/07 |
NPRM | 10/09/08 | 73 FR 60007
NPRM Comment Period End | 11/24/08 |
Correction | 11/10/08 | 73 FR 66563
NPRM Comment Period Reopened | 01/16/09 | 74 FR 2907
NPRM Comment Period End | 03/17/09 |
NPRM; Notice of Public Scoping Session | 03/11/09 | 74 FR 10517
NPRM Comment Period Reopened | 04/13/09 | 74 FR 16797
NPRM Comment Period End | 06/29/09 |
Final Rule | 07/00/13 |

Regulatory Flexibility Analysis Required: Yes.

Agency Contact: Andrea Huberty, Branch Chief, Regulatory and Environmental Analysis, BRS, Department of Agriculture, Animal and Plant Health Inspection Service, 4700 River Road, Unit 146, Riverdale, MD 20737-1236, Phone: 301 851-3880.

RIN: 0579-AC31

139. Importation of Poultry and Poultry Products From Regions Affected With Highly Pathogenic Avian Influenza

Legal Authority: 7 U.S.C. 1622; 7 U.S.C. 8301 to 8317; 21 U.S.C. 136 and 136a

Abstract: This rulemaking will amend the regulations concerning the importation of animals and animal products to prohibit or restrict the importation of birds, poultry, and bird and poultry products from regions that have reported the presence in commercial birds or poultry of highly pathogenic avian influenza other than subtype H5N1. This action will supplement existing prohibitions and restrictions on articles from regions that have reported the presence of Newcastle disease or highly pathogenic avian influenza subtype H5N1.

Timetable:

Action | Date | FR Cite
Interim Final Rule | 01/24/11 | 76 FR 4046
Interim Final Rule Comment Period End | 03/25/11 |
Interim Final Rule Comment Period Reopened | 05/03/11 | 76 FR 24793
Interim Final Rule Comment Period Reopened End | 05/18/11 |
Interim Final Rule Comment Period Reopened | 06/12/12 | 77 FR 34783
Interim Final Rule Comment Period Reopened End | 07/12/12 |
Final Rule | 04/00/13 |

Regulatory Flexibility Analysis Required: Yes.

Agency Contact: Javier Vargas, Case Manager, National Center for Import and Export, VS, Department of Agriculture, Animal and Plant Health Inspection Service, 4700 River Road, Unit 38, Riverdale, MD 20737-1231, Phone: 301 851-3300.

RIN: 0579-AC36

140. Bovine Spongiform Encephalopathy; Importation of Bovines and Bovine Products

Legal Authority: 7 U.S.C. 450; 7 U.S.C. 1622; 7 U.S.C. 7701 to 7772; 7 U.S.C. 8301 to 8317; 21 U.S.C. 136 and 136a; 31 U.S.C. 9701

Abstract: This rulemaking will amend the regulations regarding the importation of bovines and bovine products. This rulemaking will also address public comments received in response to a September 2008 request for comments regarding certain provisions of an APHIS January 2005 final rule.

Timetable:

Action | Date | FR Cite
NPRM | 03/16/12 | 77 FR 15848
NPRM Comment Period End | 05/15/12 |
NPRM Comment Period Reopened | 05/21/12 | 77 FR 29914
NPRM Comment Period End | 06/14/12 |
Final Action | 03/00/13 |

Regulatory Flexibility Analysis Required: Yes.

Agency Contact: Betzaida Lopez, Staff Veterinarian, Technical Trade Services, National Center for Import and Export, VS, Department of Agriculture, Animal and Plant Health Inspection Service, 4700 River Road, Unit 39, Riverdale, MD 20737-1231, Phone: 301 851-3364.

Christopher Robinson, Senior Staff Veterinarian, Technical Trade Services, National Center for Import and Export, VS, Department of Agriculture, Animal and Plant Health Inspection Service, 4700 River Road, Unit 40, Riverdale, MD 20737-1231, Phone: 301 851-3300.

RIN: 0579-AC68

141. Handling of Animals; Contingency Plans

Legal Authority: 7 U.S.C. 2131 to 2159

Abstract: This rulemaking will amend the Animal Welfare Act regulations to add requirements for contingency planning and training of personnel by research facilities and by dealers, exhibitors, intermediate handlers, and carriers. This action will heighten the awareness of licensees and registrants regarding their responsibilities and help ensure a timely and appropriate response should an emergency or disaster occur.

Timetable:

Action | Date | FR Cite
NPRM | 10/23/08 | 73 FR 63085
NPRM Comment Period End | 12/22/08 |
NPRM Comment Period Extended | 12/19/08 | 73 FR 77554
NPRM Comment Period Extended End | 02/20/09 |
Final Rule | 01/00/13 |

Regulatory Flexibility Analysis Required: Yes.

Agency Contact: Jeanie Lin, National Emergency Programs Manager, Animal Care, Department of Agriculture, Animal and Plant Health Inspection Service, 920 Main Campus Dr., Suite 200, Raleigh, NC 27606, Phone: 919 855-7097.

RIN: 0579-AC69

142. Agricultural Bioterrorism Protection Act of 2002; Biennial Review and Republication of the Select Agent and Toxin List; Amendments to the Select Agent and Toxin Regulations

Legal Authority: 7 U.S.C. 8401

Abstract: In accordance with the Agricultural Bioterrorism Protection Act of 2002, we are amending and republishing the list of select agents and toxins that have the potential to pose a severe threat to animal or plant health, or to animal or plant products. The Act requires the biennial review and republication of the list of select agents and toxins and the revision of the list as necessary. This action implements the findings of the third biennial review of the list. In addition, we are reorganizing the list of select agents and toxins based on the relative potential of each select agent or toxin to be misused to adversely affect human, plant, or animal health. Such tiering of the list allows for the optimization of security measures for those select agents or toxins that present the greatest risk of deliberate misuse with the most significant potential for mass casualties or devastating effects to the economy, critical infrastructure, or public confidence. We are also making a number of amendments to the regulations, including the addition of definitions and clarification of language concerning security, training, biosafety, biocontainment, and incident response. These changes will increase the usability of the select agent regulations as well as provide for enhanced program oversight.

Timetable:

Action | Date | FR Cite
ANPRM | 07/29/10 | 75 FR 44724
ANPRM Comment Period End | 08/30/10 |
NPRM | 10/03/11 | 76 FR 61228
NPRM Comment Period End | 12/02/11 |
NPRM Comment Period Extended | 12/15/11 | 76 FR 77914
NPRM Comment Period Extended End | 01/17/12 |
Final Rule | 10/05/12 | 77 FR 61056
Final Rule Effective | 12/04/12 |
Remaining Provisions of Final Rule Effective | 04/03/13 |

Regulatory Flexibility Analysis Required: Yes.

Agency Contact: Charles L. Divan, Branch Chief, Agriculture Select Agent Program, Department of Agriculture, Animal and Plant Health Inspection Service, 4700 River Road, Unit 2, Riverdale, MD 20737-1231, Phone: 301 851-2219.

RIN: 0579-AD09

143. Lacey Act Implementation Plan; Definitions for Exempt and Regulated Articles

Legal Authority: 16 U.S.C. 3371 et seq.

Abstract: In response to recent amendments to the Lacey Act, we are establishing definitions for the terms “common cultivar” and “common food crop” and several related terms. The amendments to the Act expanded its protections to a broader range of plant species, extended its reach to encompass products, including timber, that derive from illegally harvested plants, and require that importers submit a declaration at the time of importation for certain plants and plant products. Common cultivars and common food crops are among the categorical exemptions to the provisions of the Act. The Act does not define the terms “common cultivar” and “common food crop” but instead gives authority to the U.S. Department of Agriculture and the U.S. Department of the Interior to define these terms by regulation. Our definitions specify which plants and plant products will be subject to the provisions of the Act, including the declaration requirement.

Timetable:

Action | Date | FR Cite
NPRM | 08/04/10 | 75 FR 46859
NPRM Comment Period End | 10/04/10 |
Extension of Comment Period | 10/29/10 | 75 FR 66699
Extension of Comment Period End | 11/29/10 |
Final Rule | 01/00/13 |

Regulatory Flexibility Analysis Required: Yes.

Agency Contact: George Balady, Senior Staff Officer, Quarantine Policy Analysis and Support, PPQ, Department of Agriculture, Animal and Plant Health Inspection Service, 4700 River Road, Unit 60, Riverdale, MD 20737-1231, Phone: 301 851-2240.

RIN: 0579-AD11

144. Animal Disease Traceability

Regulatory Plan: This entry is Seq. No. 5 in part II of this issue of the Federal Register.

RIN: 0579-AD24

145. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11 |
Final Rule | 03/00/13 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

146. Citrus Canker, Citrus Greening, and Asian Citrus Psyllid; Interstate Movement of Regulated Nursery Stock

Legal Authority: 7 U.S.C. 7701 to 7772; 7 U.S.C. 7781 to 7786

Abstract: This rulemaking will amend the regulations governing the interstate movement of regulated articles from areas quarantined for citrus canker, citrus greening, and/or Asian citrus psyllid (ACP) to allow the movement of regulated nursery stock under a certificate to any area within the United States. In order to be eligible to move regulated nursery stock, a nursery must enter into a compliance agreement with APHIS that specifies the conditions under which the nursery stock must be grown, maintained, and shipped. It will also amend the regulations that allow the movement of regulated nursery stock from an area quarantined for ACP, but not for citrus greening, to amend the existing regulatory requirements for the issuance of limited permits for the interstate movement of the nursery stock. We are making these changes on an immediate basis in order to provide nursery stock producers in areas quarantined for citrus canker, citrus greening, or ACP with the ability to ship regulated nursery stock to markets within the United States that would otherwise be unavailable to them due to the prohibitions and restrictions contained in the regulations while continuing to provide adequate safeguards to prevent the spread of the three pests into currently unaffected areas of the United States.

Timetable:

Action | Date | FR Cite
Interim Final Rule | 04/27/11 | 76 FR 23449
Interim Final Rule Effective | 04/27/11 |
Interim Final Rule Comment Period End | 06/27/11 |
Final Rule | 04/00/13 |

Regulatory Flexibility Analysis Required: Yes.

Agency Contact: Deborah McPartlan, Emergency and Domestic Programs, PPQ, Department of Agriculture, Animal and Plant Health Inspection Service, 4700 River Road, Unit 160, Riverdale, MD 20737-1238, Phone: 301 851-2191.

RIN: 0579-AD29

147. Treatment of Firewood and Spruce Logs Imported From Canada

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary to prevent the artificial spread of pests including emerald ash borer, Asian longhorned beetle, gypsy moth, European spruce bark beetle, and brown spruce longhorn beetle to noninfested areas of the United States and to prevent further introductions of these pests into the United States.

Timetable:

Action | Date | FR Cite
Interim Final Rule | 07/00/13 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD60

DEPARTMENT OF AGRICULTURE (USDA)

Animal and Plant Health Inspection Service (APHIS)

Completed Actions

148. • Importation of Fresh Pitaya Fruit From Central America Into the Continental United States

Legal Authority: 7 U.S.C. 450; 7 U.S.C. 7701 to 7772; 7 U.S.C. 7781 to 7786; 21 U.S.C. 136 and 136a

Abstract: This rulemaking amends the fruits and vegetables regulations to allow the importation of fresh pitaya fruit from Central America into the continental United States. As a condition of entry, the pitaya fruit must be produced in accordance with a systems approach that includes requirements for monitoring and oversight, establishment of pest-free places of production, and procedures for packing the pitaya fruit. This action will allow for the importation of pitaya fruit from Central America into the continental United States while continuing to provide protection against the introduction of plant pests.

Timetable:

Action | Date | FR Cite
NPRM | 05/24/11 | 76 FR 30036
NPRM Comment Period End | 07/25/11 |
Final Rule | 04/16/12 | 77 FR 22465
Final Rule Effective | 05/16/12 |

Regulatory Flexibility Analysis Required: Yes.

Agency Contact: David Lamb, Import Specialist, Regulatory Coordination and Compliance, PPQ, Department of Agriculture, Animal and Plant Health Inspection Service, 4700 River Road, Unit 133, Riverdale, MD 20737-1236, Phone: 301 851-2103.

RIN: 0579-AD40

149. • Importation of Dracaena Plants From Costa Rica

Legal Authority: 7 U.S.C. 450; 7 U.S.C. 7701 to 7772; 7 U.S.C. 7781 to 7786; 21 U.S.C. 136 and 136a

Abstract: This rulemaking amends the plants for planting regulations to provide conditions for the importation into the continental United States of Dracaena spp. plants from Costa Rica. These conditions will apply to plants less than 460 mm in length, which are currently allowed to be imported, and will also allow for the importation of plants over 460 mm and up to 1,371.6 mm in length, which are currently prohibited. As a condition of entry, Dracaena spp. plants from Costa Rica will have to be produced in accordance with integrated pest risk management measures that will include requirements for registration of place of production and packinghouses, a pest management plan, inspection for quarantine pests, sanitation, and traceability from place of production through the packing and export facility and to the port of entry into the United States. All Dracaena spp. plants from Costa Rica will also be required to be accompanied by a phytosanitary certificate with an additional declaration stating that all conditions for the importation of the plants have been met and that the consignment of plants has been inspected and found free of quarantine pests. This action will allow for the importation of oversized Dracaena spp. plants from Costa Rica into the United States while continuing to provide protection against the introduction of quarantine pests.

Timetable:

Action | Date | FR Cite
NPRM | 11/01/11 | 76 FR 67379
NPRM Comment Period End | 01/03/12 |
Final Rule | 06/26/12 | 77 FR 37997
Final Rule Effective | 07/26/12 |

Regulatory Flexibility Analysis Required: Yes.

Agency Contact: William Aley, Senior Import Specialist, Plants for Planting Policy, PPQ, Department of Agriculture, Animal and Plant Health Inspection Service, 4700 River Road, Unit 136, Riverdale, MD 20737-1231, Phone: 301 851-2130.

RIN: 0579-AD54.

BILLING CODE 3410-34-P

DEPARTMENT OF AGRICULTURE (USDA)

Rural Housing Service (RHS)

Final Rule Stage

150. Guaranteed Single-Family Housing

Legal Authority: 5 U.S.C. 301; 7 U.S.C. 1989; 42 U.S.C. 1480

Abstract: The Guaranteed Single-Family Housing Loan Program is taking the proposed action to implement authorities granted the Secretary of the USDA, in section 102 of the Supplemental Appropriations Act, 2010 (Pub. L. 111-212, July 29, 2010) to collect from the lender an annual fee not to exceed 0.5 percent of the outstanding principal balance of the loan for the life of the loan. The intent of the annual fee is to make the SFHGLP subsidy neutral when used in conjunction with the one-time guarantee fee, thus eliminating the need for taxpayer support of the program.

Timetable:

Action | Date | FR Cite
NPRM | 10/28/11 | 76 FR 66860
NPRM Comment Period End | 12/27/11 |
Final Action | 04/00/13 |
Final Action Effective | 06/00/13 |

Regulatory Flexibility Analysis Required: Yes.

Agency Contact: Cathy Glover, Senior Loan Specialist, Department of Agriculture, Rural Housing Service, 1400 Independence Avenue SW., STOP 0784, Washington, DC 02050-0784, Phone: 202 720-1460, Email: cathy.glover@wdc.usda.gov.

RIN: 0575-AC18

BILLING CODE 3410-XV-P

DEPARTMENT OF AGRICULTURE (USDA)

Food and Nutrition Service (FNS)

Proposed Rule Stage

151. National School Lunch and School Breakfast Programs: Nutrition Standards for All Foods Sold in School, as Required by the Healthy, Hunger-Free Kids Act of 2010

Regulatory Plan: This entry is Seq. No. 8 in part II of this issue of the Federal Register.

RIN: 0584-AE09

152. Child and Adult Care Food Program: Meal Pattern Revisions Related to the Healthy, Hunger-Free Kids Act of 2010

Legal Authority: Pub. L. 111-296

Abstract: This proposal would implement section 221 of the Healthy, Hunger-Free Kids Act of 2010 (Pub. L. 111-296, the Act) which requires USDA to review and update, no less frequently than once every 10 years, requirements for meals served under the Child and Adult Care Food Program (CACFP) to ensure that meals are consistent with the most recent Dietary Guidelines for Americans and relevant nutrition science.

Timetable:

Action | Date | FR Cite
NPRM | 05/00/13 |
NPRM Comment Period End | 07/00/13 |

Regulatory Flexibility Analysis Required: Yes.

Agency Contact: James F. Herbert, Regulatory Review Specialist, Department of Agriculture, Food and Nutrition Service, 10th Floor, 3101 Park Center Drive, Alexandria, VA 22302, Phone: 703 305-2572, Email: james.herbert@fns.usda.gov.

RIN: 0584-AE18

153. Enhancing Retailer Eligibility Standards in SNAP

Legal Authority: sec 3, U.S.C. 2012; sec 9, U.S.C. 2018

Abstract: This rulemaking will address the criteria used to authorize redemption of SNAP benefits (especially by restaurant-type operations).

Timetable:

Action | Date | FR Cite
NPRM | 05/00/13 |
NPRM Comment Period End | 07/00/13 |

Regulatory Flexibility Analysis Required: Yes.

Agency Contact: James F. Herbert, Regulatory Review Specialist, Department of Agriculture, Food and Nutrition Service, 10th Floor, 3101 Park Center Drive, Alexandria, VA 22302, Phone: 703 305-2572, Email: james.herbert@fns.usda.gov.

RIN: 0584-AE27

DEPARTMENT OF AGRICULTURE (USDA)

Food and Nutrition Service (FNS)

Final Rule Stage

154. Certification of Compliance With Meal Requirements for the National School Lunch Program Under the Healthy, Hunger-Free Kids Act of 2010

Legal Authority: Pub. L. 111-296

Abstract: This rule codifies section 201 of the Healthy, Hunger-Free Kids Act (Pub. L. 111-296) under 7 CFR part 210 directing the Secretary to provide, additional 6 cents per lunch, adjusted annually for changes in the Consumer Price Index, for schools that are certified to be in compliance with the interim/final regulation, “Nutrition Standards in the National School Lunch and Breakfast Programs,” (77 FR 4088, January 26, 2012). This rule establishes the compliance standards that State agencies will use to certify schools that are eligible to receive the rate increase.

Timetable:

Action | Date | FR Cite
Interim Final Rule Effective | 07/01/12 |
Interim Final Rule Comment Period End | 07/26/12 |
Final Action | 09/00/13 |

Regulatory Flexibility Analysis Required: Yes.

Agency Contact: James F. Herbert, Regulatory Review Specialist, Department of Agriculture, Food and Nutrition Service, 10th Floor, 3101 Park Center Drive, Alexandria, VA 22302, Phone: 703 305-2572, Email: james.herbert@fns.usda.gov.

RIN: 0584-AE15

BILLING CODE 3410-30-P

DEPARTMENT OF AGRICULTURE (USDA)

Food Safety and Inspection Service (FSIS)

Proposed Rule Stage

155. Performance Standards for the Production of Processed Meat and Poultry Products

Legal Authority: 21 U.S.C. 451 et seq.; 21 U.S.C. 601 et seq.

Abstract: FSIS is proposing to establish pathogen reduction performance standards for all ready-to-eat (RTE) and partially heat-treated meat and poultry products. The performance standards spell out the objective level of pathogen reduction that establishments must meet during their operations in order to produce safe products, but allow the use of customized, plant-specific processing procedures other than those prescribed in their earlier regulations. With HACCP, food safety performance standards give establishments the incentive and flexibility to adopt innovative, science-based food safety processing procedures and controls, while providing objective, measurable standards that can be verified by Agency inspectional oversight. This set of performance standards will include and be consistent with standards already in place for certain ready-to-eat meat and poultry products.

Timetable:

Action | Date | FR Cite
NPRM | 02/27/01 | 66 FR 12590
NPRM Comment Period End | 05/29/01 |
NPRM Comment Period Extended | 07/03/01 | 66 FR 35112
NPRM Comment Period Extended End | 09/10/01 |
Interim Final Rule | 06/06/03 | 68 FR 34208
Interim Final Rule Effective | 10/06/03 |
Interim Final Rule Comment Period End | 01/31/05 |
NPRM Comment Period Reopened | 03/24/05 | 70 FR 15017
NPRM Comment Period Reopened End | 05/09/05 |
Affirmation of Interim Final Rule and Supplemental Proposed Rule | 09/00/13 |

Regulatory Flexibility Analysis Required: Yes.

Agency Contact: Rachel Edelstein, Acting Assistant Administrator, Office of Policy and Program Development, Department of Agriculture, Food Safety and Inspection Service, 1400 Independence Avenue SW., 351-E JWB, Washington, DC 20250, Phone: 202 205-0495, Fax: 202 720-2025, Email: rachel.edelstein@fsis.usda.gov.

RIN: 0583-AC46

156. Descriptive Designation for Needle or Blade Tenderized (Mechanically Tenderized) Beef Products

Regulatory Plan: This entry is Seq. No. 16 in part II of this issue of the Federal Register.

RIN: 0583-AD45

DEPARTMENT OF AGRICULTURE (USDA)

Food Safety and Inspection Service (FSIS)

Long-Term Actions

157. Mandatory Inspection of Catfish and Catfish Products

Legal Authority: 21 U.S.C. 601 et seq.; Pub. L. 110-249, sec 11016

Abstract: The Food, Conservation, and Energy Act of 2008 (Pub. L. 110-246, sec. 11016), known as the 2008 Farm Bill, amended the Federal Meat Inspection Act (FMIA) to make catfish an amenable species under the FMIA. Amenable species must be inspected, so this rule will define inspection requirements for catfish. The regulations will define “catfish” and the scope of coverage of the regulations to apply to establishments that process farm-raised species of catfish and to catfish and catfish products. The regulations will take into account the conditions under which the catfish are raised and transported to a processing establishment.

Timetable:

Action | Date | FR Cite
NPRM | 02/24/11 | 76 FR 10433
NPRM Comment Period End | 06/24/11
Final Action | To Be Determined.

Regulatory Flexibility Analysis Required: Yes.

Agency Contact: Rachel Edelstein, Phone: 202 205-0495, Fax: 202 720-2025, Email: rachel.edelstein@fsis.usda.gov.

RIN: 0583-AD36

BILLING CODE 3410-30-P

DEPARTMENT OF AGRICULTURE (USDA)

Forest Service (FS)

Proposed Rule Stage

158. National Forest System Invasive Species Management Handbook

Legal Authority: Not Yet Determined

Abstract: Management activities to address the threats and impacts of invasive species across the National Forest System are guided by a general, broad policy articulated in the proposed Forest Service Manual 2900 (NFS Invasive Species Management). FSM 2900 is currently in proposed directive process and being reviewed by OMB. However, the specific requirements, standards, criteria, rules, and guidelines for NFS invasive species management operations are not detailed in FSM 2900 and need to be provided through an accompanying handbook issued through the Directives system. Therefore, this action to develop a proposed handbook, tiering from FSM 2900, to provide this necessary set of requirements, standards, criteria, and other operational guidance for invasive species management on National Forests and Grasslands.

Timetable:

Action | Date | FR Cite
Proposed Rule | 05/00/13

Regulatory Flexibility Analysis Required: No.

Agency Contact: LaRenda C. King, Assistant Director, Directives and Regulations, Department of Agriculture, Forest Service, ATTN: ORMS, D&R Branch, 1400 Independence Avenue, Washington, DC 20250-0003, Phone: 202 205-6560, Email: larendacking@fs.fed.us.

RIN: 0596-AD05

DEPARTMENT OF AGRICULTURE (USDA)

Forest Service (FS)

Final Rule Stage

159. Land Management Planning Rule Policy

Legal Authority: 5 U.S.C. 302; 16 U.S.C. 1604; 16 U.S.C. 1613

Abstract: Background: Describe what the current directives require or allow, and what the problem is.

The Forest Service is promulgating a new land management planning regulation at 36 CFR part 219 (RIN 0596-AC94). A proposed land management planning rule was published for public comment February 14, 2011 (70 FR 8480). The agency intends to issue interim directives to implement the new planning rule shortly after publishing the final rule in the Federal Register around the end of calendar year 2011. An interim directive is an issuance that modifies previous direction or establishes new direction for a period of up to 18 months. Release of the interim directives will include a 60-day public comment period. The current directives implement the provisions of the 2000 planning rule that is being replaced by the new rule.

Proposed Action: Briefly describe the action you wish to take.

The US Forest Service is proposing to amend the Forest Service Manual (FSM) 1900—Planning and Forest Service Handbook (FSH) 1909.12—Land Management Planning Handbook. Within the FSM 1900, the agency proposes to change the Zero Code and Chapter 1920—Land Management Planning. Direction would be revised to implement the new planning rule.

Specifics: List the exact regulatory language that this directive will modify, and describe, generally, how this will be changed or what will be added. Use bullets.

* FSM 1905—Definitions. Amend definitions to include those in the planning rule.

* FSM 1920—Land Management Planning. Amend the entire chapter to implement the rule.

* FSH 1909.12—Land Management Planning Handbook. Amend the entire handbook to implement the rule.

Timetable:

Action | Date | FR Cite
Interim Final Rule | 03/00/13

Regulatory Flexibility Analysis Required: No.

Agency Contact: LaRenda C. King, Assistant Director, Directives and Regulations, Department of Agriculture, Forest Service, ATTN: ORMS, D&R Branch, 1400 Independence Avenue, Washington, DC 20250-0003, Phone: 202 205-6560, Email: larendacking@fs.fed.us.

RIN: 0596-AD06

BILLING CODE 3410-11-P

DEPARTMENT OF AGRICULTURE (USDA)

Office of Procurement and Property Management (OPPM)

Proposed Rule Stage

160. Designation of Biobased Items for Federal Procurement, Round 10

Legal Authority: Pub. L. 110-246

Abstract: Designates for preferred procurement: Adhesives; aircraft and boat cleaners; automotive care products; body care products-body powders; engine crankcase oil; exterior paints and coatings; facial care products; gasoline fuel additives; hair removal-depilatory products; metal cleaners and corrosion removers; microbial cleaning products; paint removers; paper products; sanitary tissues; water turbine bearing oils; and asphalt roofing materials—low slope.

Timetable:

Action | Date | FR Cite
NPRM | 12/05/12 | 77 FR 72653
NPRM Comment Period End | 02/04/13
Final Rule | 02/00/13

Regulatory Flexibility Analysis Required: Yes.

Agency Contact: Ron Buckhalt, Manager, BioPreferred Program, Office of Procurement and Property Management, Department of Agriculture, Office of Procurement and Property Management, 361 Reporters Building, 300 7th Street SW., Washington, DC 20250, Phone: 202 205-4008, Fax: 202 720-8972, Email: ronb.buckhalt@dm.usda.gov.

RIN: 0599-AA16

DEPARTMENT OF AGRICULTURE (USDA)

Office of Procurement and Property Management (OPPM)

Completed Actions

161. Designation of Biobased Items for Federal Procurement, Round 9

Legal Authority: Pub. L. 110-246

Abstract: Designates for preferred procurement: Agricultural spray adjuvants; animal cleaning products; aquaculture products; deodorants; dethatcher products; fuel conditioners; leather, vinyl, and rubber care products; lotions and moisturizers; shaving products; specialty precision cleaners and solvents; sun care products; and wastewater systems coatings.

Completed:

Reason | Date | FR Cite
NPRM | 06/05/12 | 77 FR 33270
Final Rule | 11/19/12 | 77 FR 69381
Final Rule Effective | 12/19/12

Regulatory Flexibility Analysis Required: Yes.

Agency Contact: Ron Buckhalt, Phone: 202 205-4008, Fax: 202 720-8972, Email: ronb.buckhalt@dm.usda.gov.

RIN: 0599-AA15

[FR Doc. 2012-31486 Filed 1-7-13; 8:45 am]

BILLING CODE 3410-98-P